DEPARTMENT OF VETERANS AFFAIRS

[OMB Control No: 2900-NEW]

Agency Information Collection Activity: Study on Provision of Interments in Veterans' Cemeteries During Weekends

AGENCY: National Cemetery Administration, Department of Veterans Affairs.

ACTION: Notice of cancellation

SUMMARY: In compliance with the Paperwork Reduction Act (PRA) of 1995, the Department of Veterans Affairs (VA) National Cemetery Administration's (NCA) emergency notice announcing the “Study on Provision of Interments in Veterans' Cemeteries during Weekends,” survey has been cancelled as of June 22, 2017. Public Law 114-315, section 304, enacted by the U.S. Congress and signed by the President on December 16, 2016, makes a specific request for the collection and reporting of the information covered by this request. NCA will be soliciting comments by posting questions to the general public through a Federal Register Notice.

DATES: Emergency notification was published in the Federal Register to inform the public of VA's study, Vol. 82, No. 97, Monday, May 22, 2017, pages 23489-23490.

FOR FURTHER INFORMATION CONTACT: Cynthia Harvey-Pryor, Enterprise Records Service (005R1B), Department of Veterans Affairs, 810 Vermont Avenue NW., Washington, DC 20420, at 202-461-5870 or email cynthia.harvey-pryor@va.gov.

By direction of the Secretary.
Cynthia Harvey-Pryor,
Department Clearance Officer, Office of Quality and Compliance, Department of Veterans Affairs.

[FR Doc. 2017-17463 Filed 8-17-17; 8:45 am]

BILLING CODE 8320-01-P